DEPARTMENT OF JUSTICE

Notice of Lodging of Amended Consent Decree Under the Clean Air Act

Pursuant to 28 CFR 50.7, notice is hereby given that, on December 17, 2008, a proposed Third Amendment Making Material Modifications to Consent Decree (“Third Consent Decree Amendment”) was lodged with the United States District Court for the Northern District of Illinois in United States, et al. v. Exxon Mobil Corp. and ExxonMobil Oil Corp., Case No. 05 C 5809 (N.D. Ill.). In December 2005, the court approved the original Consent Decree in the case, which governs compliance with certain Clean Air Act requirements at six of ExxonMobil's domestic petroleum refineries. Since 2005, the parties have agreed to two minor changes to the Consent Decree, in accordance with the provision of the Decree governing non-material modifications.

The proposed Third Consent Decree Amendment would make several material changes to the Decree, including: (i) extending deadlines for completion of certain air pollution control projects; and (ii) imposing more stringent emission control requirements for two other projects and accelerating the schedule for completion of another project in order to compensate for emissions in the interim period during the deadline extensions.

The Department of Justice will receive comments relating to the Third Consent Decree Amendment for a period of thirty (30) days from the date of this publication. Comments should be addressed to the Assistant Attorney General, Environment and Natural Resources Division, and mailed either electronically to pubcomment-ees.enrd@usdoj.gov or in hard copy to P.O. Box 7611, U.S. Department of Justice, Washington, DC 20044-7611. Comments should refer to United States, et al. v. Exxon Mobil Corp. and ExxonMobil Oil Corp., Case No. 05 C 5809 (N.D. Ill.) and D.J. Ref. No. 90-5-2-1-07030.

The Third Consent Decree Amendment may be examined at the offices of the United States Attorney, 219 S. Dearborn Street—5th Floor, Chicago, Illinois. During the public comment period, the Third Consent Decree Amendment may also be examined on the following Department of Justice Web site: http://www.usdoj.gov/enrd/Consent_Decrees.html. A copy of the Third Consent Decree Amendment may also be obtained by mail from the Department of Justice Consent Decree Library, P.O. Box 7611, Washington, D.C. 20044-7611 or by faxing or e-mailing a request to Tonia Fleetwood (tonia.fleetwood@usdoj.gov), fax no. (202) 514-0097, phone confirmation number (202) 514-1547. In requesting a copy from the Consent Decree Library, please enclose a check in the amount of $10.00 (40 pages at 25 cents per page reproduction cost) payable to the U.S. Treasury.

Robert D. Brook,
Assistant Chief, Environmental Enforcement Section, Environment and Natural Resources Division.

[FR Doc. E8-30529 Filed 12-23-08; 8:45 am]

BILLING CODE 4410-15-P